DEPARTMENT OF ENERGY

Federal Energy Regulatory Commission

Combined Notice of Filings #1

Take notice that the Commission received the following electric corporate filings:

Docket Numbers: EC25-133-000.

Applicants: MRP Elgin LLC, MRP Rocky Road LLC.

Description: Joint Application for Authorization Under Section 203 of the Federal Power Act of MRP Elgin LLC, et al.

Filed Date: 8/19/25.

Accession Number: 20250819-5160.

Comment Date: 5 p.m. ET 9/9/25.

Take notice that the Commission received the following electric rate filings:

Docket Numbers: ER12-1470-018; ER10-3026-016; ER16-1833-013.

Applicants: Sempra Gas & Power Marketing, LLC, Termoelectrica U.S., LLC, Energia Sierra Juarez U.S., LLC.

Description: Notice of Non-Material Change in Status of Energia Sierra Juarez U.S., LLC, et al.

Filed Date: 8/20/25.

Accession Number: 20250820-5187.

Comment Date: 5 p.m. ET 9/10/25.

Docket Numbers: ER24-1847-002.

Applicants: Sierra Pacific Power Company, Nevada Power Company.

Description: Compliance filing: Nevada Power Company submits tariff filing per 35: Third Order 2023 Compliance Filing ER24-1847 to be effective 7/1/2024.

Filed Date: 8/21/25.

Accession Number: 20250821-5104.

Comment Date: 5 p.m. ET 9/11/25.

Docket Numbers: ER25-2856-000.

Applicants: Casey Fork Solar, LLC.

Description: Second Supplement to July 15, 2025, Casey Fork Solar, LLC tariff filing.

Filed Date: 8/20/25.

Accession Number: 20250820-5177.

Comment Date: 5 p.m. ET 9/10/25.

Docket Numbers: ER25-3076-000.

Applicants: Arlington Valley Solar Energy, LLC.

Description: Supplement to 08/01/2025, Arlington Valley Solar Energy, LLC tariff filing.

Filed Date: 8/21/25.

Accession Number: 20250821-5098.

Comment Date: 5 p.m. ET 9/11/25.

Docket Numbers: ER25-3241-000.

Applicants: Emily Solar, LLC.

Description: § 205(d) Rate Filing: Revised Market Based Rate Tariff to be effective 8/21/2025.

Filed Date: 8/20/25.

Accession Number: 20250820-5151.

Comment Date: 5 p.m. ET 9/10/25.

Docket Numbers: ER25-3242-000.

Applicants: Limon Wind III Energy, LLC.

Description: § 205(d) Rate Filing: Limon Wind III Energy MBR Application to be effective 10/21/2025.

Filed Date: 8/20/25.

Accession Number: 20250820-5161.

Comment Date: 5 p.m. ET 9/10/25.

Docket Numbers: ER25-3243-000.

Applicants: Logan Wind, LLC.

Description: § 205(d) Rate Filing: Logan Wind MBR Application to be effective 10/21/2025.

Filed Date: 8/20/25.

Accession Number: 20250820-5162.

Comment Date: 5 p.m. ET 9/10/25.

Docket Numbers: ER25-3244-000.

Applicants: Thunder Wolf II, LLC.

Description: § 205(d) Rate Filing: Thunder Wolf II MBR Application to be effective 10/21/2025.

Filed Date: 8/20/25.

Accession Number: 20250820-5165.

Comment Date: 5 p.m. ET 9/10/25.

Docket Numbers: ER25-3245-000.

Applicants: Highland Solar I, LLC.

Description: § 205(d) Rate Filing: Highland Solar I MBR Application to be effective 10/21/2025.

Filed Date: 8/20/25.

Accession Number: 20250820-5168.

Comment Date: 5 p.m. ET 9/10/25.

Docket Numbers: ER25-3246-000.

Applicants: South Platte Storage, LLC.

Description: § 205(d) Rate Filing: South Platte Storage MBR Application to be effective 10/21/2025.

Filed Date: 8/20/25.

Accession Number: 20250820-5171.

Comment Date: 5 p.m. ET 9/10/25.

Docket Numbers: ER25-3247-000.

Applicants: South Platte Solar, LLC.

Description: § 205(d) Rate Filing: South Platte Solar MBR Application to be effective 10/21/2025.

Filed Date: 8/20/25.

Accession Number: 20250820-5172.

Comment Date: 5 p.m. ET 9/10/25.

Docket Numbers: ER25-3248-000.

Applicants: Dry Land Prairie Energy Storage, LLC.

Description: § 205(d) Rate Filing: Dry Land Prairie Energy Storage MBR Application to be effective 10/21/2025.

Filed Date: 8/20/25.

Accession Number: 20250820-5174.

Comment Date: 5 p.m. ET 9/10/25.

Docket Numbers: ER25-3249-000.

Applicants: PJM Interconnection, L.L.C.

Description: Tariff Amendment: Notice of Cancellation of ISA, Service Agreement No. 7094; Queue No. AG1-041 to be effective 10/21/2025.

Filed Date: 8/21/25.

Accession Number: 20250821-5024.

Comment Date: 5 p.m. ET 9/11/25.

Docket Numbers: ER25-3250-000.

Applicants: PJM Interconnection, L.L.C.

Description: § 205(d) Rate Filing: Amendment to GIA, Service Agreement No. 7233; AG1-348 to be effective 10/21/2025.

Filed Date: 8/21/25.

Accession Number: 20250821-5030.

Comment Date: 5 p.m. ET 9/11/25.

Docket Numbers: ER25-3251-000.

Applicants: PJM Interconnection, L.L.C.

Description: § 205(d) Rate Filing: Amendment to ISA, SA No. 5680; Queue No. AC1-120/AC1-121 to be effective 10/21/2025.

Filed Date: 8/21/25.

Accession Number: 20250821-5041.

Comment Date: 5 p.m. ET 9/11/25.

Docket Numbers: ER25-3252-000.

Applicants: Dry Falls Energy Center, LLC.

Description: § 205(d) Rate Filing: Dry Falls Energy Center MBR Application to be effective 10/21/2025.

Filed Date: 8/21/25.

Accession Number: 20250821-5044.

Comment Date: 5 p.m. ET 9/11/25.

Docket Numbers: ER25-3253-000.

Applicants: ISO New England Inc.

Description: Request of ISO New England Inc. Limited Waivers of Section III.13.7.2.6 of its Tariff and Section 3.3(e) of its Billing Policy.

Filed Date: 8/20/25.

Accession Number: 20250820-5196.

Comment Date: 5 p.m. ET 9/10/25.

Docket Numbers: ER25-3255-000.

Applicants: California Independent System Operator Corporation.

Description: § 205(d) Rate Filing: 2025-08-21 Tariff Clarifications Filing—Summer 2025 to be effective 11/19/2025.

Filed Date: 8/21/25.

Accession Number: 20250821-5053.

Comment Date: 5 p.m. ET 9/11/25.

Docket Numbers: ER25-3256-000.

Applicants: Windy Lane Energy Center, LLC.

Description: § 205(d) Rate Filing: Windy Lane Energy Center, LLC MBR Application to be effective 10/21/2025.

Filed Date: 8/21/25.

Accession Number: 20250821-5054.

Comment Date: 5 p.m. ET 9/11/25.

Docket Numbers: ER25-3257-000.

Applicants: Duke Energy Carolinas, LLC.

Description: § 205(d) Rate Filing: Attachment J to Joint OATT (LGIP/LGIA), Ministerial Clean-Up Filing to be effective 4/1/2024.

Filed Date: 8/21/25.

Accession Number: 20250821-5081.

Comment Date: 5 p.m. ET 9/11/25.

Take notice that the Commission received the following electric securities filings:

Docket Numbers: ES25-54-000.

Applicants: AEP Texas Inc.

Description: Supplement to Application Under Section 204 of the Federal Power Act for Authorization to Issue Securities of AEP Texas Inc.

Filed Date: 8/19/25.

Accession Number: 20250819-5159.

Comment Date: 5 p.m. ET 8/29/25.

Docket Numbers: ES25-56-000.

Applicants: AEP Texas Inc.

Description: Supplement to Application Under Section 204 of the Federal Power Act for Authorization to Issue Securities of AEP Texas Inc.

Filed Date: 8/19/25.

Accession Number: 20250819-5158.

Comment Date: 5 p.m. ET 8/29/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organization, Tribal members and others, access publicly available information and navigate Commission processes. For public inquiries and assistance with making filings such as interventions, comments, or requests for rehearing, the public is encouraged to contact OPP at (202) 502-6595 or OPP@ferc.gov.

Dated: August 21, 2025.
Carlos D. Clay,
Deputy Secretary.

[FR Doc. 2025-16317 Filed 8-25-25; 8:45 am]

BILLING CODE 6717-01-P